DEPARTMENT OF HOMELAND SECURITY

Transportation Security Administration

[Docket No. TSA-2006-24191]

Extension of Agency Information Collection Activity Under OMB Review: Transportation Worker Identification Credential (TWIC®) Program

AGENCY: Transportation Security Administration, DHS.

ACTION: 30-Day notice.

SUMMARY: This notice announces that the Transportation Security Administration (TSA) has forwarded the Information Collection Request (ICR), Office of Management and Budget (OMB) control number 1652-0047, abstracted below to OMB for review and approval of an extension of the currently approved collection under the Paperwork Reduction Act (PRA). The ICR describes the nature of the information collection and its expected burden. The collection involves the submission of biographic and biometric information that TSA uses to verify identity and conduct a security threat assessment (STA) for the TWIC® Program, and a customer satisfaction survey.

DATES: Send your comments by May 29, 2025. A comment to OMB is most effective if OMB receives it within 30 days of publication.

ADDRESSES: Written comments and recommendations for the proposed information collection should be sent within 30 days of publication of this notice to https://www.reginfo.gov/public/do/PRAMain. Find this particular information collection by selecting “Currently under 30-day Review—Open for Public Comments” or by using the search function.

FOR FURTHER INFORMATION CONTACT: Christina A. Walsh, TSA PRA Officer, Information Technology, TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on December 12, 2024, 89 FR 100518. TSA did not receive any comments on the notice.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Transportation Worker Identification Credential (TWIC®) Program.

Type of Request: Extension of a currently approved collection.

OMB Control Number: 1652-0047.

Forms(s): TWIC® Disclosure and Certification Form, TWIC® Pre-Enrollment Application, TWIC® Enrollment Application, TWIC® Card Replacement Request, and TWIC® Customer Satisfaction Survey.

Affected Public: Individuals seeking or requiring unescorted access to secure areas within the TSA's national and transportation security mission or facilities and vessels regulated under the Maritime Transportation Security Act of 2002 (Pub. L. 107-295 (Nov. 25, 2002; sec. 102), other authorized individuals in the field of transportation, and all mariners holding U.S. Coast Guard-issued credentials or qualification documents.

Abstract: The data collected will be used for processing TWIC enrollments as well as to allow expanded enrollment options for additional comparability or eligibility determinations for other programs, such as the Hazardous Materials Endorsement Threat Assessment Program. Individuals in the field of transportation who are authorized to apply for a TWIC for use as part of other government programs, may apply for a TWIC and undergo the associated STA. The data is used to conduct a comprehensive STA that includes: (1) a criminal history records check; (2) a check of intelligence databases; and (3) an immigration status check. TSA may also use the information to determine a TWIC holder's eligibility to participate in TSA's expedited screening program for air travel, the TSA PreCheck® Application Program. Active (unexpired) TWIC holders who meet the eligibility requirements for TSA PreCheck may use their TWIC card's Credential Identification Number in the appropriate known traveler number field of an airline reservation to obtain expedited screening eligibility.

At the enrollment center, applicants verify their biographic information and provide identity documentation, biometric information, and proof of immigration status (if required). This information allows TSA to complete the STA. During enrollment, TSA collects from applicants a $124.00 fee for standard enrollment. If TSA determines that the applicant is eligible to receive a TWIC as a result of the STA, TSA issues and sends an activated TWIC card to the address provided by the applicant or notifies the applicant that their TWIC is ready for pick up and activation at an enrollment center. Once activated, this credential can be used for facility and vessel access control requirements to include card authentication, card validation, and identity verification. In the event of a lost, damaged or stolen credential, the cardholder must notify TSA immediately and may request a replacement card online, via telephone, or from an enrollment center for a $60.00 fee.

TSA has identified several situations where an individual may be charged a reduced fee. First, if TSA determines an individual has already completed a comparable STA through other governmental agencies, such as the TSA Hazardous Materials Endorsement program and U.S. Customs and Border Protection Free and Secure Trade Program, the individual is eligible for a reduced fee of $93.00.

Second, under section 809 of the United States Coast Guard Authorization Act of 2010, certain Merchant Mariners are not required to obtain a credential when they apply for their TWIC STA. If a mariner opts to not receive a TWIC card, TSA may reduce the TWIC fee to reflect only the enrollment and vetting segments of the fee, resulting in a fee reduction of $25.75.

Third, TWIC applicants who previously maintained an active TWIC STA may be eligible to renew online. Approximately 60 percent of active TWIC cardholders enroll for a new TWIC after their STA expires 5 years from the date of issuance. Online TWIC renewals reduce the applicant cost and hour burden by permitting eligible applicants to obtain a new TWIC without enrolling in-person at a TSA enrollment center. Additionally, TSA mitigates certain security risks associated with online renewals by enrolling current TWIC cardholders in recurrent vetting services, such as the Federal Bureau of Investigation's Rap Back Service. The renewal fee for TWIC online renewals is $116.00 compared to the in person renewal fee of $124.00.

TSA invites all TWIC applicants to complete an optional survey to gather information on the applicants' overall customer satisfaction with the enrollment process. This optional survey is administered following the enrollment process, including the new online renewals, and the process to activate the TWIC, where applicable. The results from these surveys are compiled to produce reports that are reviewed by the enrollment services provider and TSA.

Number of Annual Respondents: 705,038.¹

¹ The burdens listed here are different from what was listed in the 60-Day Notice. TSA modified the estimates to include the reduction of the Federal Bureau Investigation Criminal History Records Check fee effective January 1, 2025, in new and renewal enrollments.

Estimated Annual Burden Hours: An estimated 510,471 hours annually.

Estimated Annual Cost: $78,706,109.

Dated: April 23, 2025.
Christina A. Walsh,
Paperwork Reduction Act Officer, Information Technology Transportation Security Administration.

[FR Doc. 2025-07321 Filed 4-28-25; 8:45 am]

BILLING CODE 9110-05-P